FEDERAL MARITIME COMMISSION

Ocean Transportation Intermediary License Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 3007F.

Name: Berardino & Associates Incorporated.

Address: 188 Industrial Drive, Suite 427, Elmhurst, IL 60126.

Date Revoked: November 9, 2010.

Reason: Surrendered license voluntarily.

License Number: 022766N.

Name: Atlantic Integrated Freight Inc.

Address: 19 Princeton Drive, Dix Hills, NY 11746.

Date Revoked: November 5, 2010.

Reason: Surrendered license voluntarily.

Sandra L. Kusumoto,
Director, Bureau of Certification and Licensing.

[FR Doc. 2010-30878 Filed 12-7-10; 8:45 am]

BILLING CODE 6730-01-P